DEPARTMENT OF TRANSPORTATION

Federal Aviation Administration

14 CFR Part 39

[Docket No. FAA-2012-0756; Directorate Identifier 2012-CE-012-AD]

RIN 2120-AA64

Airworthiness Directives; Piper Aircraft, Inc. Airplanes

ACTION: Notice of proposed rulemaking (NPRM).

SUMMARY: We propose to adopt a new airworthiness directive (AD) for all Piper Aircraft, Inc. (type certificate previously held by The New Piper Aircraft Inc.) Models PA-18 and PA-19 airplanes. This proposed AD was prompted by incidents of inadvertent magneto switch shut off in flight. This proposed AD would require moving all magneto switches that are now or are at any time located on the left cabin panel, adjacent to the front seat, to the instrument panel. We are proposing this AD to correct the unsafe condition on these products.

DATES: We must receive comments on this proposed AD by September 4, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gary Wechsler, Aerospace Engineer, FAA, Atlanta Aircraft Certification Office, 1701 Columbia Avenue, College Park, Georgia 30337; phone: (404) 474-5575; fax: (404) 474-5606; email: gary.wechsler@faa.gov.

SUPPLEMENTARY INFORMATION:

Comments Invited

We invite you to send any written relevant data, views, or arguments about this proposal. Send your comments to an address listed under the ADDRESSES section. Include “Docket No. FAA-2012-0756; Directorate Identifier 2012-CE-012-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Three forced landings of Piper Aircraft, Inc. Model PA-18 airplanes with magneto switches located on the left cabin panel, adjacent to the front seat, were caused by pilots unknowingly turning off the magneto switches and causing in-flight engine shutdowns. In each event, the pilot was performing other flight tasks, such as re-trimming the airplane, and the pilot's arm and/or article of clothing accidently turned off the magneto switches.

Those parties that may desire an alternative method of compliance (AMOC) are encouraged to work together with pertinent type clubs toward a single global AMOC.

Any Piper Aircraft, Inc. Model PA-18 airplane with the magneto switch currently located away from the left cabin panel, adjacent to the front seat, including those already placed on an airplane's wing root, is not at a high risk of an inadvertent in-flight engine shutdown and loss of flight control and are not the subject of this proposed AD.

This condition, if not corrected, could result in engine shut down and possible loss of control.

FAA's Determination

We are proposing this AD because we evaluated all the relevant information and determined the unsafe condition described previously is likely to exist or develop in other products of the same type design.

Proposed AD Requirements

This proposed AD would require removing the magneto switch and ignition leads from the left cabin panel adjacent to the front seat and install a key-type ignition switch on the instrument panel.

Costs of Compliance

We estimate that this proposed AD affects 295 airplanes of U.S. registry.

We estimate the following costs to comply with this proposed AD:

Estimated Costs
Action | Labor cost | Parts cost | Cost per product | Cost on U.S. operators
Relocate the magneto switch from the port side interior cabin wall to the instrument panel and replace the magneto switch with a keyed switch | 3.5 work-hours × $85 per hour = $297.50 | $125 | $422.50 | $124,637.50

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Piper Aircraft, Inc. (Type Certificate Previously Held by The New Piper Aircraft Inc.): Docket No. FAA-2012-0756; Directorate Identifier 2012-CE-012-AD.

(a) Comments Due Date

We must receive comments by September 4, 2012.

(b) Affected ADs

None.

(c) Applicability

This AD applies to Piper Aircraft, Inc. (type certificate previously held by The New Piper Aircraft Inc.) Models PA-18, PA-18 “105” (Special), PA-18S, PA-18S “105” (Special), PA-18A, PA-18 “125” (Army L-21A), PA-18S “125”, PA-18AS “125”, PA-18 “135” (Army L-21B), PA-18A “135”, PA-18S “135”, PA-18AS “135”, PA-18 “150”, PA-18A “150”, PA-18S “150”, PA-18AS “150”, PA-19 (Army L-18C), and PA-19S airplanes, all serial numbers, that:

(1) Are certificated in any category; and

(2) Are now or at any time equipped with a magneto switch installed on the left cabin panel, adjacent to the front seat.

Note 1 to paragraph (c) of this AD: Model PA-18 airplanes with the magneto switch located away from the left cabin panel, adjacent to the front seat, including those currently placed on an airplane's wing root, are not subject to the requirements of this AD.

(d) Subject

Joint Aircraft System Component (JASC)/Air Transport Association (ATA) of America Code 74, Engine Ignition.

(e) Unsafe Condition

This AD was prompted by incidents of inadvertent magneto switch shut off in flight. We are issuing this AD to prevent engine shut down and possible loss of control.

(f) Compliance

Comply with this AD within the compliance times specified, unless already done.

(g) Relocate the Magneto Switch and Replace With Key-Type Ignition Switch

Within the next 12 months after the effective date of this AD, do the following in accordance with FAA Advisory Circular 43.13-2B, Chapter 11, which can be found at http://rgl.faa.gov/:

(1) Remove the magneto switch and ignition leads from the left cabin panel, adjacent to the front seat, install either a Piper part number 15302-02, -04 or -05 (or FAA approved equivalent part number) key-type ignition switch on the instrument panel, not adjacent to or below (the height of) the engine fuel primer, attach ignition leads, maintaining shielded or unshielded configuration existing at time of new switch installation, and secure leads following the procedures in FAA Advisory Circular 43.13-2B, Chapter 11, which can be found at http://rgl.faa.gov/.

(2) Perform engine run to verify proper engine operation. Following regular run-up procedures, allow the engine to reach operating temperatures and do a normal magneto check.

(h) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(i) Related Information

For more information about this AD, contact Gary Wechsler, Aerospace Engineer, FAA, Atlanta ACO, 1701 Columbia Avenue, College Park, Georgia 30337; phone: (404) 474-5575; fax: (404) 474-5606; email: gary.wechsler@faa.gov.

Issued in Kansas City, Missouri, on July 13, 2012.
Earl Lawrence,
Manager, Small Airplane Directorate, Aircraft Certification Service.

[FR Doc. 2012-17589 Filed 7-18-12; 8:45 am]

BILLING CODE 4910-13-P